DEPARTMENT OF LABOR

Employment And Training Administration

Trade Adjustment Assistance Program; Designation of Certifying Officers

AGENCY: Employment and Training Administration, Labor.

ACTION: Notice of designation of certifying officers.

SUMMARY: The trade adjustment assistance program operates under the Trade Act of 1974 to furnish program benefits to domestic workers adversely affected in their employment by imports of articles which are like or are directly competitive with articles produced by the firm employing the workers. The North American Free Trade Agreement-Transitional Adjustment Assistance amended the Trade Act of 1974 to provide assistance to workers impacted by a shift in production from the workers' firm to Mexico or Canada, or increased company or customer imports from Mexico or Canada of articles like or directly competitive with those produced by the workers' firm. Workers become eligible for program benefits only if the worker group is certified under the Act as eligible to apply for adjustment assistance. From time to time the agency issues an Order designating officials of the agency authorized to act as certifying officers. Employment and Training Order No. 1-01, was issued to revise the listing of officials designated as certifying officers, superseding the previous Order. Employment and Training Order No. 1-01, is published below.

Signed at Washington, D.C., this 10th day of May 2001.
Raymond J. Uhalde,
Deputy Assistant Secretary of Labor, Employment and Training Administration.

[FR Doc. 01-12820 Filed 5-21-01; 8:45 am]

BILLING CODE 4510-30-M